DEPARTMENT OF TRANSPORTATION

Federal Aviation Administration

14 CFR Part 39

[Docket No. FAA-2020-1120; Product Identifier 2019-SW-056-AD]

RIN 2120-AA64

Airworthiness Directives; Goodrich Externally-Mounted Hoist Assemblies

AGENCY: Federal Aviation Administration (FAA), DOT.

ACTION: Notice of proposed rulemaking (NPRM).

SUMMARY: The FAA proposes to adopt a new airworthiness directive (AD) for various model helicopters with certain part-numbered Goodrich externally-mounted hoist assemblies (hoists) installed. This proposed AD would require replacing unmodified hoists, installing placards, revising the existing Rotorcraft Flight Manual (RFM) for your helicopter, deactivating or removing a hoist if a partial peel out occurs, reviewing the helicopter's hoist slip load test records, repetitively inspecting the hoist cable and overload clutch (clutch), and reporting information to the FAA. This proposed AD would also require establishing operating limitations on the hoist and prohibit installing an unmodified hoist. This proposed AD was prompted by hoists failing lower load limit inspections. The actions of this proposed AD are intended to address an unsafe condition on these products.

DATES: The FAA must receive comments on this proposed AD by January 25, 2021.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2020-1120; or in person at Docket Operations between 9 a.m. and 5 p.m., Monday through Friday, except Federal holidays. The AD docket contains this proposed AD, the European Union Aviation Safety Agency (EASA) AD, any comments received, and other information. The street address for Docket Operations is listed above. Comments will be available in the AD docket shortly after receipt.

For service information identified in this proposed rule, contact Collins Aerospace; 2727 E Imperial Hwy., Brea, CA 92821; telephone 714-984-1461. You may view the referenced service information at the FAA, Office of the Regional Counsel, Southwest Region, 10101 Hillwood Pkwy, Room 6N-321, Fort Worth, TX 76177.

FOR FURTHER INFORMATION CONTACT: Kristi Bradley, Aerospace Engineer, General Aviation & Rotorcraft Section, International Validation Branch, FAA, 10101 Hillwood Pkwy., Fort Worth, TX 76177; telephone 817-222-5110; email kristin.bradley@faa.gov.

SUPPLEMENTARY INFORMATION:

Comments Invited

The FAA invites you to send any written relevant data, views, or arguments about this proposal. Send your comments to an address listed under ADDRESSES. Include “Docket No. FAA-2020-1120; Product Identifier 2019-SW-056-AD” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to http://www.regulations.gov, including any personal information you provide. The agency will also post a report summarizing each substantive verbal contact received about this proposal.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Kristi Bradley, Aerospace Engineer, General Aviation & Rotorcraft Section, International Validation Branch, FAA, 10101 Hillwood Pkwy., Fort Worth, TX 76177; telephone 817-222-5110; email kristin.bradley@faa.gov. Any comments that the FAA receives which are not specifically designated as CBI will be placed in the public docket for this rulemaking.

Discussion

EASA, which is the Technical Agent for the Member States of the European Union, has issued a series of ADs, the most recent being EASA AD No. 2015-0226R5, Revision 5, dated July 23, 2020 (EASA AD 2015-0226R5), to correct an unsafe condition for various model helicopters with a Goodrich externally-mounted hoist that has one of the following part numbers (P/Ns) or base P/Ns installed: 42315, 42325, 44301-10-1, 44301-10-2, 44301-10-4, 44301-10-5, 44301-10-6, 44301-10-7, 44301-10-8, 44301-10-9, 44301-10-10, 44301-10-11, 44311, 44312, 44314, 44315, 44316, or 44318. These hoists have a common overload clutch design. EASA advises of an initial incident of a rescue hoist containing a dummy test load of 552 lbs. that reeled-out without command of the operator and impacted the ground during a maintenance check flight. Examination of the hoist determined that the overload clutch had failed. EASA states that this condition, if not detected and corrected, could lead to further cases of in-flight loss of the hoist load, possibly resulting in injury to persons on the ground or in a hoisting accident.

EASA also determined that some versions of the existing clutch had not been approved for aircraft use. EASA advises that Goodrich developed a new overload clutch with improved process control to mitigate some of the factors resulting in the degraded clutch performance. EASA's series of ADs were issued to adjust compliance intervals and replacement times, and include revised service information. EASA AD 2015-0226R5 was prompted by a major change approval for Leonardo S.p.a. Model AW109SP helicopters that allows a longer overhaul interval for hoists with the new overload clutch installed.

Accordingly, EASA AD 2015-0226R5 requires a records review to determine if the cable has exceeded the allowable limit in previous load testing, a repetitive load check and test of the clutch slip value, removal or deactivation of a hoist that cannot be tested due to lack of approved instructions, replacement of the old clutch P/N with a new clutch developed by Goodrich to mitigate some of the factors resulting in clutch degradation, periodic replacement of the hoist, reduction of the maximum allowable load on the hoist, addition of operational limitations to the RFM, and replacement of the hoist after a partial peel out. EASA AD 2015-0226R5 also prohibits the installation of a replacement cable that has exceeded the allowable limit in previous load testing. EASA considers AD 2015-0226R5 to be interim action and advises further AD action may follow.

FAA's Determination

Affected helicopters include helicopters that have been approved by the aviation authorities of Canada, Italy, France, and Germany and are approved for operation in the United States. Pursuant to the FAA's bilateral agreement with the European Union, EASA has notified the FAA about the unsafe condition described in its AD. The FAA is proposing this AD after evaluating all known relevant information and determining that an unsafe condition is likely to exist or develop on other helicopters.

Related Service Information Under 1 CFR Part 51

The FAA reviewed Goodrich Alert Service Bulletin (ASB) 44301-10-18, Revision 6, dated October 10, 2016 (ASB 44301-10-18, Rev 6), which specifies maximum hoist load limitations with respect to ambient temperature and describes actions and conditions that could reduce the capacity of the clutch. This service information also specifies procedures for inspecting the cable and inspecting the clutch by performing a cable conditioning lift and a hoist slip load test.

This service information is reasonably available because the interested parties have access to it through their normal course of business or by the means identified in the ADDRESSES section.

Proposed AD Requirements

This proposed AD would require:

• Replacing any hoist without a “4” as the first digit of its serial number (S/N) within 12 months after the effective date of this AD or before the hoist accumulates 55 operating hours, 1,200 hoist cycles (cycles), or 1,600 hoist lifts (lifts), whichever occurs first.

• Installing placards and revising the existing RFM for your helicopter to add maximum hoist load limitations, an excessive maneuvering warning, a maximum sustained bank angle in turn, and a prohibition on operating the hoist in the event of a partial peel out.

• Deactivating or removing any hoist that experiences partial peel out from service.

• Reviewing records for cable load-testing that was previously performed, and depending on the findings, replacing the cable.

• Repetitively inspecting the cable, inspecting the clutch by performing a cable conditioning lift and hoist slip load test, inspecting the cable a second time, reporting certain information to the FAA, and depending on these inspection outcomes, replacing the cable or removing the hoist from service.

• This proposed AD would also prohibit installing an affected replacement or original installation hoist that has not been re-identified to indicate a new improved clutch assembly.

Installation of a hoist with an improved overload clutch assembly, which is indicated by having a “4” as the first digit of its S/N, would not terminate the actions required by this proposed AD.

Differences Between This Proposed AD and the EASA AD

The EASA AD requires repetitively replacing the hoist with a modified hoist, whereas this proposed AD would not require repetitive replacement once a modified hoist with the improved clutch assembly is installed. The EASA AD requires adding a placard or operational limitation to the RFM warning that exceeding 15° of lateral pendulum angle/helicopter vertical axis can lead to clutch slippage, and this proposed AD would not. The EASA AD requires adding an operating limitation to the RFM limiting the number of persons who can be hoisted, whereas this proposed AD would not. This proposed AD would require replacing the cable before the next hoist operation if a cable has previously been load-tested at more than 1,500 lbs or at an unknown weight during at least one cable pull, while the EASA AD requires this replacement during multiple cable pulls. This proposed AD would require visually inspecting and measuring the diameter of the cable before and after performing a cable conditioning and a hoist slip load test, whereas the EASA AD does not. This proposed AD would require performing the cable conditioning and hoist slip load test within 30 days and thereafter at intervals not to exceed 6 months, 400 lifts, or 300 cycles. The EASA AD specifies performing the hoist slip load test according to the compliance time of the design approval holder instead. After the installation (not reinstallation) of a modified hoist, the EASA AD requires performing an initial hoist load check/test prior to hoisting operation, whereas this proposed AD would not.

Interim Action

The FAA considers this proposed AD to be an interim action. The inspection reports that would be required by this proposed AD will enable better insight into the condition of the hoists, and eventually to develop final action to address the unsafe condition. Once final action has been identified, the FAA might consider further rulemaking.

Costs of Compliance

The FAA estimates that this proposed AD affects 2,911 helicopters of U.S. Registry. Labor rates are estimated at $85 per work-hour. Based on these numbers, the FAA estimates that operators may incur the following costs in order to comply with this proposed AD.

Replacing a hoist would take about 8 work-hours and parts would cost about $200,000 for an estimated cost of $200,680.

Revising the existing RFM for your helicopter and installing placards would take about 0.5 work-hour for an estimated cost of $43 per helicopter and $125,173 for the U.S. fleet.

Deactivating or removing a hoist that experiences partial peel out would take about 2 work-hours for an estimated cost of $170.

Reviewing records would take about 0.5 work-hour for an estimated cost of $43 per helicopter and $125,173 for the U.S. fleet.

Inspecting the cable and performing a cable conditioning lift and hoist slip load test would take about 2 work-hours for an estimated cost of $170 per helicopter and $494,870 for the U.S. fleet per inspection cycle. Reporting the hoist slip load test information would take about 0.25 work-hour for a cost of $21 per helicopter and $61,131 for the U.S. fleet per reporting cycle.

Replacing the cable would take about 3 work-hours and parts would cost about $3,150 for a total replacement cost of $3,405.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 0.25 hour per response, including the time for reviewing instructions, searching existing data sources, gathering and maintaining the data needed, and completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866,

2. Will not affect intrastate aviation in Alaska, and

3. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Goodrich Externally-Mounted Hoist Assemblies: Docket No. FAA-2020-1120; Product Identifier 2019-SW-056-AD.

(a) Applicability

This AD applies to helicopters, certificated in any category, with an externally-mounted hoist assembly (hoist) with a part number (P/N) or base P/N listed under the Hoist Family column in Table 1 of Goodrich Alert Service Bulletin No. 44301-10-18, Revision 6, dated October 10, 2016 (ASB 44301-10-18 Rev 6), installed. An affected hoist may be installed on but not limited to the following:

Note 1 to the introductory text of paragraph (a): The hoist P/N may be included as a component of a different part-numbered kit.

(1) Airbus Helicopters (previously Eurocopter France) Model AS332L, AS332L1, AS332L2, AS350B2, AS350B3, AS365N3, and EC225LP helicopters;

(2) Airbus Helicopters Deutschland GmbH (AHD) (previously Eurocopter Deutschland GmbH) Model EC135P1, EC135P2, EC135P2+, EC135P3, EC135T1, EC135T2, EC135T2+, EC135T3, MBB-BK 117 C-2, and MBB-BK 117 D-2 helicopters;

(3) Bell Textron Canada Limited (previously Bell Helicopter Textron Canada Limited) Model 429 and 430 helicopters;

(4) Bell Textron Inc. (previously Bell Helicopter Textron Inc.) Model 205A, 205A-1, 205B, 212, 412, 412CF, and 412EP helicopters;

(5) Leonardo S.p.a. (previously Finmeccanica S.p.A., AgustaWestland S.p.A) Model A109, A109A, A109A II, A109C, A109E, A109K2, A109S, AB139, AB412, AB412 EP, AW109SP, and AW139, helicopters;

(6) MD Helicopters, Inc. (MDHI) Model MD900 helicopters;

(7) Transport and restricted category helicopters, originally manufactured by Sikorsky Aircraft Corporation, Models S-61A, S-61L, S-61N, S-76A, S-76B, S-76C, S-76D, and S-92A; and

(8) Restricted category Model HH-1K, TH-1F, TH-1L, UH-1A, UH-1B, UH-1E, UH-1F, UH-1H, UH-1L, and UH-1P helicopters.

(b) Unsafe Condition

This AD defines the unsafe condition as failure of the hoist overload clutch resulting in an in-flight failure of the hoist, which could result in injury to a person being lifted.

(c) Comments Due Date

The FAA must receive comments by January 25, 2021.

(d) Compliance

You are responsible for performing each action required by this AD within the specified compliance time unless it has already been accomplished prior to that time.

(e) Required Actions

(1) For a hoist without the number “4” as the first digit of its serial number (S/N), before further flight:

(i) For hoists that use operating hours to monitor hoist operation, within 12 months after the effective date of this AD or before the hoist accumulates 55 hoist operating hours, whichever occurs first, replace the hoist. For purposes of this AD, hoist operating hours are counted anytime the hoist motor is operating.

(ii) For hoists that use hoist cycles (cycles) to monitor hoist operation, within 12 months after the effective date of this AD or before the hoist accumulates 1,200 cycles, whichever occurs first, replace the hoist. For purposes of this AD, a cycle is counted anytime the cable is extended and then retracted a minimum of 16 feet (5 meters) during flight or on the ground, with or without a load.

(iii) For hoists that use hoist lifts (lifts) to monitor hoist operation, within 12 months after the effective date of this AD or before the hoist accumulates 1,600 lifts, whichever occurs first, replace the hoist. For purposes of this AD, a lift is counted anytime the cable is unreeled or recovered or both with a load attached to the hook, regardless of the length of the cable that is deployed or recovered. An unreeling or recovery of the cable with no load on the hook is not a lift. If a load is applied for half an operation (i.e. unreeling or recovery), it must be counted as one lift.

(2) For all hoists identified in the introductory text of paragraph (a) of this AD, before further flight, install placards and revise the existing Rotorcraft Flight Manual (RFM) for your helicopter by inserting a copy of this AD or by making pen-and-ink changes in Section 2, Limitations, of the RFM Supplement for the hoist as follows:

(i) For 500 pound (lb) rated hoists, install a placard with the information in Figure 1 to paragraph (e)(2)(i) of this AD in full view of the hoist operator and add the information in Figure 1 to paragraph (e)(2)(i) of this AD to the existing RFM for your helicopter:

(ii) For 600 lb rated hoists, install a placard with the information in Figure 2 to paragraph (e)(2)(ii) of this AD in full view of the hoist operator and add the information in Figure 2 to paragraph (e)(2)(ii) of this AD to the existing RFM for your helicopter:

(iii) For 500 and 600 lb rated hoists, install a placard with the information in Figure 3 to paragraph (e)(2)(iii) of this AD in full view of the pilot and add the information in Figure 3 to paragraph (e)(2)(iii) of this AD to the existing RFM for your helicopter.

(iv) For 500 and 600 lb rated hoists, install a placard with the information in Figure 4 to paragraph (e)(2)(iv) of this AD in full view of the pilot and add the information in Figure 4 to paragraph (e)(2)(iv) of this AD to the existing RFM for your helicopter:

(3) For all hoists identified in the introductory text of paragraph (a) of this AD, as of the effective date of this AD, if a partial peel out occurs, deactivate or remove the hoist from service before further flight. For purposes of this AD, a partial peel out occurs when 20 inches (0.5 meter) or more of the hoist cable reels off of the hoist cable drum in one overload clutch slip incident.

(4) For all hoists identified in the introductory text of paragraph (a) of this AD, within 30 days after the effective date of this AD, review the helicopter's hoist slip load test records. If the cable was load-tested at more than 1,500 lbs or at an unknown weight during one or more cable pulls, replace the cable with an airworthy cable before the next hoist operation.

(5) For all hoists identified in the introductory text of paragraph (a) of this AD, within 30 days after the effective date of this AD, and thereafter at intervals not to exceed 6 months, 400 lifts, or 300 cycles, whichever occurs first:

(i) Visually inspect the first 18 inches (45 cm) of the cable from the hook assembly for broken wires and necked down sections. If there is a broken wire or necked down section, replace the cable with an airworthy cable before further flight.

(ii) Within the first 18 inches (45 cm) of the cable from the hook assembly, measure the diameter of the cable at the most necked down area. If the diameter measurement is less than 0.185 inch (4.7 mm), replace the cable with an airworthy cable before further flight.

(iii) Using load check tool P/N 49900-889-104, perform a cable conditioning and a hoist slip load test by following the Accomplishment Instructions, paragraphs 3.C.(1) through 3.C.(3)(g) of ASB 44301-10-18 Rev 6. If the average of the five test values is less than the limit shown in Table 2 for 600 lb rated hoists or Table 3 for 500 lb rated hoists of ASB 44301-10-18 Rev 6, remove the hoist from service before further flight.

(iv) Visually inspect the first 30 feet (10 meters) of the cable from the hook assembly for broken wires, necked down sections, kinks, bird-caging, flattened areas, abrasion, and gouging. It is permissible for the cable to have a slight curve immediately after performing the hoist slip load test. If there is a broken wire, necked down section, kink, or any bird-caging; or if there is a flattened area, any abrasion, or a gouge that exceeds allowable limits, replace the cable with an airworthy cable before further flight.

(v) Repeat the actions specified in paragraphs (e)(5)(i) and (ii) of this AD. If there is a broken wire or necked down section or the cable diameter measurement is less than 0.185 inch (4.7 mm), replace the cable with an airworthy cable before further flight.

(6) Within 30 days after accomplishing the hoist slip load test, report the information requested in Appendix 1 to this AD by email to ASB.SIS-CA@utas.utc.com; or mail to Goodrich, Collins Aerospace; 2727 E. Imperial Hwy., Brea, CA 92821.

(7) As of the effective date of this AD, do not install as a replacement part or as an original installation an externally-mounted hoist with a P/N identified in the introductory text of paragraph (a) of this AD unless it has an improved overload clutch assembly with the number “4” as the first digit of the S/N.

(f) Paperwork Reduction Act Burden Statement

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 0.25 hour per response, including the time for reviewing instructions, searching existing data sources, gathering and maintaining the data needed, and completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

(g) Alternative Methods of Compliance (AMOCs)

(1) The Manager, International Validation Branch, FAA, may approve AMOCs for this AD. Send your proposal to: Kristi Bradley, Aerospace Engineer, General Aviation & Rotorcraft Section, International Validation Branch, FAA, 10101 Hillwood Pkwy., Fort Worth, TX 76177; telephone 817-222-5110; email kristin.bradley@faa.gov.

(2) For operations conducted under a 14 CFR part 119 operating certificate or under 14 CFR part 91, subpart K, the FAA suggests that you notify your principal inspector, or lacking a principal inspector, the manager of the local flight standards district office or certificate holding district office before operating any aircraft complying with this AD through an AMOC.

(h) Additional Information

The subject of this AD is addressed in European Union Aviation Safety Agency (EASA) AD No. 2015-0226R5, Revision 5, dated July 23, 2020. You may view the EASA AD on the internet at https://www.regulations.gov in the AD Docket.

(i) Subject

Joint Aircraft Service Component (JASC) Code: 2500, Cabin Equipment/Furnishings.

Appendix 1 to AD ####-##-##

Hoist Slip Load Test Results (Sample Format)

Provide the following information by email to ASB.SIS-CA@utas.utc.com; or mail to Goodrich, Collins Aerospace; 2727 E. Imperial Hwy., Brea, CA 92821.

Helicopter Owner/Operator Name:

Email Address:

Telephone Number:

Helicopter Model and Serial Number:

Hoist Part Number:

Hoist Serial Number:

Time since Last Hoist Overhaul (months):

Hoist Operating Hours:

Hoist Cycles:

Hoist Lifts:

Date and Location Test was Accomplished:

Point of Contact for Additional Information:

Air Temperature:

Gearbox Lubricant:

Hoist Slip Load Test Value 1:

Hoist Slip Load Test Value 2:

Hoist Slip Load Test Value 3:

Hoist Slip Load Test Value 4:

Hoist Slip Load Test Value 5:

Hoist Slip Load Test Averaged Test Value:

Any notes or comments:

Issued on December 4, 2020.
Lance T. Gant,
Director, Compliance & Airworthiness Division, Aircraft Certification Service.

[FR Doc. 2020-27105 Filed 12-10-20; 8:45 am]

BILLING CODE P